DEPARTMENT OF JUSTICE

Notice of Lodging of Consent Decree Pursuant to CERCLA

Notice is hereby given that on October 17, 2005, the United States lodged a proposed Consent Decree between the United States, the State of Arkansas, the Signature Combs plaintiffs, and Oakley-Keesee Ford, Inc. (“Oakley-Keesee”) with the United States District Court for the Eastern District of Arkansas in United States et al. v. Oakley-Keesee Ford, Nos. 3:98CV00362, 3:98CV00363, consolidated with Signature Comb, Inc. et al. v. Oakley-Keesee Ford, No. 3:02CV00125 (SMR).

The proposed Consent Decree resolves the claims of the United States, the State of Arkansas, and the Signature Combs plaintiffs against Oakley-Keesee under sections 106(b) and 107(a) of the Comprehensive Environmental Response, Compensation, and Liability Act, (“CERCLA”), 42 U.S.C. 9606, 9607, regarding the Gurley Pit and South 8th Street Superfund Sites located in Crittenden County, Arkansas. Under the proposed decree, Oakley-Keesee has agreed to pay the plaintiffs $260,000 within 30 days of the effective date of the Consent Decree as follows: (1) $150,000 will be paid to the Superfund in partial reimbursement of the United States' past and future response costs at the Sites; (2) $100,000 will be paid to the superfund in penalties for the defendant's failure to comply with the Unilateral Administrative Order to perform the remedial action at the South 8th Street Site; and (3) $10,000 will be paid to the State in partial reimbursement of State's past and future response costs at the Sites. Oakley-Keesee also has agreed to pay the Signature Combs plaintiffs $300,000 in partial reimbursement of response costs expended by the Signature Combs plaintiffs related to the Sites.

The Department of Justice will receive for a period of thirty (30) days from the date of this publication comments relating to the proposed Consent Decree. Comments should be addressed to the Acting Assistant Attorney General, Environment and Natural Resources Division, United States Department of Justice, PO Box 7611, Ben Franklin Station, Washington, DC 20044-7611, and should refer to United States et al. v. Oakley-Keesee Ford, DJ No. 90-11-2-196/2.

The proposed Consent Decree may be examined during the public comment period on the following Department of Justice Web site: http://www.usdoj.gov/enrd/open.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.25 (25 cents per page reproduction cost) payable to the U.S. Treasury.

Dated: October 19, 2005.
Thomas A. Mariani, Jr.,
Assistant Chief, Environmental Enforcement Section, Environment and Natural Resources Division.

[FR Doc. 05-21883 Filed 11-1-05; 8:45 am]

BILLING CODE 4410-15-M